DEPARTMENT OF THE TREASURY

Internal Revenue Service

26 CFR Part 1

[TD 9329]

RIN 1545-BF16

Guidance Necessary to Facilitate Business Electronic Filing and Burden Reduction; Correction

AGENCY: Internal Revenue Service (IRS), Treasury.

ACTION: Final regulations; correction.

SUMMARY: This document contains a correction to final regulations (TD 9329) that were published in the Federal Register on Thursday, June 14, 2007 (72 FR 32794) affecting taxpayers that file Federal income tax returns. They simplify, clarify, or eliminate reporting burdens and also eliminate regulatory impediments to the electronic filing of certain statements that taxpayers are required to include on or with their Federal income tax returns.

DATES: The correction is effective June 29, 2007.

FOR FURTHER INFORMATION CONTACT: Grid Glyer, (202) 622-7930 (not a toll-free number).

SUPPLEMENTARY INFORMATION:

Background

The final regulations that are the subject of the correction are under sections 302, 331, 332, 338, 351, 355, 368, 381, 382, 1081, 1221, 1502, 1563, and 6012 of the Internal Revenue Code.

Need for Correction

As published, final regulations (TD 9329) contain an error that may prove to be misleading and is in need of clarification.

Correction of Publication

Accordingly, the publication of the final regulations (TD 9329), which were the subject of FR Doc. E7-11148, is corrected as follows:

On page 32794, in the document heading, the language “RIN 1545-BF26” is corrected to read “RIN 1545-BF16”.

LaNita Van Dyke,
Chief, Publications and Regulations Branch, Legal Processing Division, Associate Chief Counsel (Procedure and Administration).

[FR Doc. E7-12590 Filed 6-28-07; 8:45 am]

BILLING CODE 4830-01-P